COMMITTEE FOR PURCHASE FROM PEOPLE WHO ARE BLIND OR SEVERELY DISABLED

Procurement List Deletions

AGENCY: Committee for Purchase From People Who Are Blind or Severely Disabled.

ACTION: Deletions from the Procurement List.

SUMMARY: This action deletes products and services from the Procurement List previously furnished by nonprofit agencies employing persons who are blind or have other severe disabilities.

DATES: Effective 12/16/2013.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Deletions

On 9/6/2013 (78 FR 54871), 9/13/2013 (78 FR 56680) and 9/20/2013 (78 FR 57844), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN: 6510-00-913-7906—Bandage, Gauze, Elastic.

NPA: Elwyn, Inc., Aston, PA.

Contracting Activity: Defense Logistics Agency Troop Support, Philadelphia, PA.

Marker Board, Wall Mounted

NSN: 7195-01-567-9516—Cork Tiles, Self-Stick, 12″ x 12″, unframed.

NPA: The Lighthouse for the Blind, Inc. (Seattle Lighthouse), Seattle, WA.

Contracting Activities: Department of Veterans Affairs, NAC, Hines, IL. GSA/FSS Household and Industrial Furniture, Arlington, VA.

Desk Planners

NSN: 7530-01-600-7584—Weekly Planner Book, Dated, 5″ x 8″, Digital Camouflage.

NSN: 7530-01-600-7587—Daily Desk Planner, Wire bound, Non-refillable, Black Cover.

NSN: 7530-01-600-7594—Monthly Desk Planner, Wire Bound, Non-refillable, Black cover.

NSN: 7530-01-600-7604—Weekly Desk Planner, Wire Bound, Non-refillable, Black cover.

Desk and Wall Calendars

NSN: 7510-01-600-7565—Wall Calendar, Dated, Wire Bound w/Hanger, 12″ x 17″.

NSN: 7510-01-600-7620—Monthly Wall Calendar, Dated, Jan-Dec, 8½″ x 11″.

NSN: 7510-01-600-7635—Wall Calendar, Dated, Wire Bound w/hanger, 15.5″ x 22″.

NPA: The Chicago Lighthouse for People Who Are Blind or Visually Impaired, Chicago, IL.

Contracting Activity: General Services Administration, New York, NY.

NSN: 7530-01-554-9537—CD/DVD Label Kit.

NPA: North Central Sight Services, Inc., Williamsport, PA.

Contracting Activity: General Services Administration, New York, NY

Services

Service Type/Location:

Janitorial/Custodial Service, Frank T. Bow Federal Building, 201 Cleveland Avenue SE., Canton, OH.

NPA: The Workshops, Inc., Canton, OH.

Contracting Activity: GSA/Public Buildings Service, Property Management Service Center, Chicago, IL.

Service Type/Location: Janitorial/Custodial Service, Gamelin USARC, 10 Asylum Road, Bristol, RI.

NPA: Road to Responsibility, Inc., Marshfield, MA.

Contracting Activity: Dept of the Army, W6QM MICC-FT DIX (RC-E), FT DIX, NJ.

Barry S. Lineback,
Director, Business Operations.

[FR Doc. 2013-27399 Filed 11-14-13; 8:45 am]

BILLING CODE 6353-01-P